DEPARTMENT OF COMMERCE

National Oceanic and Atmospheric Administration

RIN 0648-XC827

Mid-Atlantic Fishery Management Council; Public Meeting

AGENCY: National Marine Fisheries Service (NMFS), National Oceanic and Atmospheric Administration (NOAA), Commerce.

ACTION: Notice of public meeting.

SUMMARY: The Mid-Atlantic Fishery Management Council's (Council) Mackerel, Squid, and Butterfish Advisory Panel (AP) will meet to develop recommendations for Georges Bank yellowtail flounder accountability measures.

DATES: The meeting will be held on Monday, September 9, 2013 at 10 a.m.

ADDRESSES: The meeting will be held at the Hilton Garden Inn, One Thurber Street, Warwick, RI 02886; telephone: (401) 734-9600.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Due to declining stock status, Georges Bank yellowtail flounder catch is likely to be severely restricted in coming years. The small-mesh whiting and squid fisheries have bycatch of Georges Bank yellowtail flounder that will likely need to be mitigated as part of a variety of fishing restrictions. The Whiting Advisory Panel is meeting at the same time and the two advisory panels will meet jointly since the small-mesh measures are likely to affect both the whiting and squid fisheries. The goal of the meeting is to develop recommendations for Georges Bank yellowtail flounder accountability measures to be considered as alternatives in Multispecies Framework Adjustment 51 and/or a future action in the Mackerel, Squid, and Butterfish Fishery Management Plan. Accountability measures can either be proactive, which prevent annual catch limit overages or reactive, which pay back past overages and/or prevent future overages.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: August 20, 2013.
Tracey L. Thompson,
Acting Deputy Director, Office of Sustainable Fisheries, National Marine Fisheries Service.

[FR Doc. 2013-20599 Filed 8-22-13; 8:45 am]

BILLING CODE 3510-22-P